DEPARTMENT OF HEALTH AND HUMAN SERVICES (HHS)

Centers for Medicare & Medicaid Services

Notice of Hearing: Reconsideration of Disapproval of Michigan State Plan Amendment (SPA) 07-21

AGENCY: Centers for Medicare & Medicaid Services (CMS), HHS.

ACTION: Notice of hearing.

SUMMARY: This notice announces an administrative hearing to be held on January 6, 2009, at the CMS Chicago Regional Office, 233 N. Michigan Avenue, Suite 600, Chicago, Illinois 60601 to reconsider CMS' decision to disapprove Michigan SPA 07-21.

CLOSING DATE: Requests to participate in the hearing as a party must be received by the presiding officer by November 28, 2008.

FOR FURTHER INFORMATION CONTACT: Benjamin Cohen, Presiding Officer, CMS, 2520 Lord Baltimore Drive, Suite L, Baltimore, Maryland 21244. Telephone: (410) 786-3169.

SUPPLEMENTARY INFORMATION: This notice announces an administrative hearing to reconsider CMS' decision to disapprove Michigan SPA 07-21 which was submitted on December 28, 2007, and disapproved on September 2, 2008.

Under this SPA, the State indicated that it would provide for the implementation of an estate recovery program under sections 1902(a)(18) and 1917(b) of the Social Security Act (the Act). CMS issued a request for additional information on March 5, 2008, which included a request for information about the State's projected cost savings resulting from implementation of the estate recovery program. In discussions with CMS regarding submission of SPA 07-21, State officials stated that these projected cost savings estimates would require revision because the estate recovery program had in fact not yet become operational. The State did not provide additional information indicating when and to what extent it would come into compliance with sections 1902(a)(18) and 1917(b) of the Act. Thus, the State's overall submission did not provide sufficient detail or information for us to determine that the State has an estate recovery program that meets statutory requirements.

Based on the above, and after consultation with the Secretary of the Department of Health and Human Services as required under Federal regulations at 42 CFR 430.15(c)(2), CMS disapproved Michigan Medicaid SPA 07-21.

The hearing will involve the following issues:

• Whether the State complied with the statutory requirements to implement an estate recovery program; and

• Whether the State has provided the information necessary for CMS to determine whether the plan can be approved to serve as a basis for Federal financial participation.

Section 1116 of the Act and Federal regulations at 42 CFR Part 430, establish Department procedures that provide an administrative hearing for reconsideration of a disapproval of a State plan or plan amendment. CMS is required to publish a copy of the notice to a State Medicaid agency that informs the agency of the time and place of the hearing, and the issues to be considered. If we subsequently notify the agency of additional issues that will be considered at the hearing, we will also publish that notice.

Any individual or group that wants to participate in the hearing as a party must petition the presiding officer within 15 days after publication of this notice, in accordance with the requirements contained at 42 CFR 430.76(b)(2). Any interested person or organization that wants to participate as amicus curiae must petition the presiding officer before the hearing begins in accordance with the requirements contained at 42 CFR 430.76(c). If the hearing is later rescheduled, the presiding officer will notify all participants.

The notice to Michigan announcing an administrative hearing to reconsider the disapproval of its SPA reads as follows:

Mr. Paul Reinhart, Director, Medical Services Administration, Department of Community Health, 400 South Pine, Lansing, MI 48933.

Dear Mr. Reinhart: I am responding to your request for reconsideration of the decision to disapprove the Michigan State plan amendment (SPA) 07-21, which was submitted on December 28, 2007, and disapproved on September 2, 2008.

Under this SPA, the State indicated that it would provide for the implementation of an estate recovery program under sections 1902(a)(18) and 1917(b) of the Social Security Act (the Act). The Centers for Medicare & Medicaid Services (CMS) issued a request for additional information on March 5, 2008, which included a request for information about the State's projected cost savings resulting from implementation of the estate recovery program. In discussions with CMS regarding submission of SPA 07-21, State officials stated that these projected cost savings estimates would require revision because the estate recovery program had in fact not yet become operational. The State did not provide additional information indicating when and to what extent it would come into compliance with sections 1902(a)(18) and 1917(b) of the Act. Thus, the State's overall submission did not provide sufficient detail or information for us to determine that the State has an estate recovery program that meets statutory requirements. Based on the above, and after consultation with the Secretary of the Department of Health and Human Services as required under Federal regulations at 42 CFR 430.15(c)(2), CMS disapproved Michigan Medicaid SPA 07-21.

The issues to be considered at the hearing are:

• Whether the State complied with the statutory requirements to implement an estate recovery program; and

• Whether the State has provided the information necessary for CMS to determine whether the plan can be approved to serve as a basis for Federal financial participation.

I am scheduling a hearing on your request for reconsideration to be held on January 6, 2009, at the CMS Chicago Regional Office, 233 N. Michigan Avenue, Suite 600, Chicago, Illinois 60601, in order to reconsider the decision to disapprove SPA 07-21. If this date is not acceptable, we would be glad to set another date that is mutually agreeable to the parties. The hearing will be governed by the procedures prescribed by Federal regulations at 42 CFR Part 430.

I am designating Mr. Benjamin Cohen as the presiding officer. If these arrangements present any problems, please contact the presiding officer at (410) 786-3169. In order to facilitate any communication which may be necessary between the parties to the hearing, please notify the presiding officer to indicate acceptability of the hearing date that has been scheduled and provide names of the individuals who will represent the State at the hearing.

Sincerely,

Kerry Weems,

Acting Administrator.

Section 1116 of the Social Security Act (42 U.S.C. section 1316; 42 CFR section 430.18)

(Catalog of Federal Domestic Assistance program No. 13.714, Medicaid Assistance Program.)

Dated: November 7, 2008.
Kerry Weems,
Acting Administrator, Centers for Medicare & Medicaid Services.

[FR Doc. E8-26993 Filed 11-12-08; 8:45 am]

BILLING CODE 4120-01-P